DEPARTMENT OF COMMERCE

International Trade Administration

[A-570-848]

Freshwater Crawfish Tail Meat From the People's Republic of China: Extension of Time Limit for Final Results of Antidumping Duty New-Shipper Reviews

AGENCY: Import Administration, International Trade Administration, Department of Commerce.

EFFECTIVE DATE: December 24, 2002.

FOR FURTHER INFORMATION CONTACT: Holly Hawkins or Scott Lindsay, Import Administration, International Trade Administration, U.S. Department of Commerce, 14th Street and Constitution Avenue, N.W., Washington, D.C. 20230; telephone: (202) 482-0414 and (202) 482-0780, respectively.

SUPPLEMENTARY INFORMATION:

Background

On September 20, 2001, the Department of Commerce received a request from Shouzhou Huaxiang Foodstuffs, Co., Ltd. to conduct a new shipper review of the antidumping duty order on freshwater crawfish tail meat from the People's Republic of China. On September 28, 2001, the Department received a similar request from North Supreme Seafood (Zhejiang) Co., Ltd. On November 8, 2001, the Department initiated these new shipper antidumping reviews covering the period September 1, 2001, through August 31, 2001. See Freshwater Crawfish Tail Meat From the People's Republic of China: Initiation of New Shipper Antidumping Review, 66 FR 56536 (November 8, 2001). The preliminary results were published on August 12, 2002. See Notice of Preliminary Results of Antidumping Duty New Shipper Reviews: Freshwater Crawfish Tail Meat from the People's Republic of China, 67 FR 52442 (August 12, 2002). On November 7, the Department extended the final results of these new shipper reviews for 44 days to December 17, 2002. See Freshwater Crawfish Tail Meat From the People's Republic of China: Extension of Time Limit for Final Results of Antidumping Duty New-Shipper Reviews, 67 FR 67821 (November 7, 2002).

Extension of Time Limits for Final Results

Pursuant to section 751(a)(2)(B)(iv) of the Act and section 351.214(i)(2) of the Department's regulations, the Department may extend the deadline for completion of the final results of a new shipper review if it determines that the case is extraordinarily complicated. The Department has determined that this case is extraordinarily complicated, and the final results of these new shipper reviews cannot be completed by the deadline established in the November 7, 2002 extension. The Department needs more time to analyze the issues raised in the parties' briefs with respect to input valuation, the scrap offset, and the bona fides of the sales. Given these issues, the Department finds that these reviews are extraordinarily complicated. Accordingly, the Department is extending the time limit for the completion of the final results until no later than January 2, 2003, in accordance with section 751(a)(2)(B)(iv) of the Act and section 351.214(i)(2) of the Department's regulations.

Dated: December 17, 2002.
Barbara E. Tillman,
Acting Deputy Assistant Secretary for Import Administration, Group III.

[FR Doc. 02-32267 Filed 12-23-02; 8:45 am]

BILLING CODE 3510-DS-S